DEPARTMENT OF TRANSPORTATION

Federal Aviation Administration

14 CFR Part 39

[Docket No. FAA-2018-0513; Product Identifier 2018-CE-013-AD]

RIN 2120-AA64

Airworthiness Directives; Honda Aircraft Company LLC

AGENCY: Federal Aviation Administration (FAA), DOT.

ACTION: Notice of proposed rulemaking (NPRM).

SUMMARY: We propose to supersede Airworthiness Directive (AD) 2018-11-05, which applies to certain Honda Aircraft Company (Honda) LLC Model HA-420 airplanes. AD 2018-11-05 requires incorporating a temporary revision into the airplane flight manual and replacing the faulty power brake valve (PBV) upon condition. Since AD 2018-11-05 was issued as an interim action in order to address the need for the immediate detection of a faulty PBV, we are issuing this proposed AD to address the long-term corrective action. This proposed AD would retain the actions required in AD 2018-11-05, would require replacing the faulty PBV with an improved design part at a specified time, and would prohibit future installations of the faulty PBVs on all Honda Model HA-420 airplanes. We are proposing this AD to address the unsafe condition on these products.

DATES: We must receive comments on this proposed AD by July 23, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Honda Aircraft Company LLC, 6430 Ballinger Road, Greensboro, North Carolina 27410; telephone (336) 662-0246; internet: http://www.hondajet.com. You may view this service information at the FAA, Policy and Innovation Division, 901 Locust, Kansas City, Missouri 64106. For information on the availability of this material at the FAA, call (816) 329-4148.

Examining the AD Docket

You may examine the AD docket on the internet at http://www.regulations.gov by searching for and locating Docket No. FAA-2018-0513; or in person at Docket Operations between 9 a.m. and 5 p.m., Monday through Friday, except Federal holidays. The AD docket contains this NPRM, the regulatory evaluation, any comments received, and other information. The street address for Docket Operations (phone: 800-647-5527) is listed above. Comments will be available in the AD docket shortly after receipt.

FOR FURTHER INFORMATION CONTACT: Samuel Kovitch, Aerospace Engineer, Atlanta ACO Branch, FAA, 1701 Columbia Avenue, College Park, Georgia 30337; phone: (404) 474-5570; fax: (404) 474-5605; email: samuel.kovitch@faa.gov.

SUPPLEMENTARY INFORMATION:

Comments Invited

We invite you to send any written relevant data, views, or arguments about this proposed AD. Send your comments to an address listed under the ADDRESSES section. Include “Docket No. FAA-2018-0513; Product Identifier 2018-CE-013-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this proposed AD.

Discussion

We issued AD 2018-11-05, Amendment 39-19293 (83 FR 24016, May 24, 2018), (“AD 2018-11-05), for certain Honda Aircraft Company LLC (Honda) Model HA-420 airplanes. AD 2018-11-05 requires inserting a temporary revision into the airplane flight manual (AFM), which may be performed by the owner/operator (pilot) holding at least a private pilot certificate and must be entered into the airplane records showing compliance with the AD in accordance with 14 CFR 43.9 (a)(1)-(4) and 14 CFR 91.417(a)(2)(v). AD 2018-11-05 also requires a conditional replacement of the installed power brake valve (PBV), P/N HJ1-13243-101-005 or P/N HJ1-13243-101-007, with an improved PBV, P/N HJ1-13243-101-009, if any of the procedures listed in the AFM temporary revision reveals a leaking PBV. In addition, AD 2018-11-05 provides an optional terminating action for inserting the temporary revision into the AFM by replacing the installed P/N HJ1-13243-101-005 or P/N HJ1-13243-101-007 with the improved P/N HJ1-13243-101-009. AD 2018-11-05 resulted from reports of unannunciated asymmetric braking during ground operations and landing deceleration.

We issued AD 2018-11-05 to prevent failure of the PBV, which could cause degraded braking performance and reduced directional control during ground operations and landing deceleration.

Actions Since AD 2018-11-05 Was Issued

Since AD 2018-11-05 was issued as an interim action in order to address the need for the immediate detection of a faulty PBV (the short-term action of inserting the temporary revision into the AFM), we are issuing this proposed AD to address the long-term corrective action (replacing the PBV).

Related Service Information Under 1 CFR Part 51

We reviewed Honda Aircraft Company Temporary Revision TR 01.1, dated February 16, 2018, to the Honda Aircraft Company HA-420 Airplane Flight Manual and Service Bulletin SB-420-32-001, dated January 8, 2018, and Revision B, dated April 16, 2018. Temporary Revision TR 01.1, dated February 16, 2018, to the HA-420 Airplane Flight Manual (AFM) describes procedures for performing pilot checks of the braking system during ground operations before every flight and before every landing and includes instructions for corrective actions if any indication of a leaking PBV is found. Service Bulletin SB-420-32-001, dated January 8, 2018, and Revision B, dated April 16, 2018, describes procedures for replacing a defective PBV with an improved design PBV. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would retain the requirements of AD 2018-11-05. This proposed AD would also require replacing the installed PBV, P/N HJ1-13243-101-005 or P/N HJ1-13243-101-007, with the improved design PBV, P/N HJ1-13243-101-009, at a specified time.

Differences Between This Proposed AD and the Service Information

Honda Service Bulletin SB-420-32-001, dated January 8, 2018, and Revision B, dated April 16, 2018, specify submitting certain information to the manufacturer. This AD does not require that action.

Costs of Compliance

We estimate that this proposed AD affects 72 airplanes of U.S. registry.

We estimate the following costs to comply with this proposed AD:

Estimated Costs
Action | Labor cost | Parts cost | Cost per product | Cost on U.S. operators
Insert temporary revision into the airplane flight manual | 1 work-hour × $85 per hour = $85 | Not applicable | $85 | $6,120
Replace the power brake valve (PBV) | 20 work-hours × $85 per hour = $1,700 | $21,878 | 23,578 | 1,697,616

Replacing the PBV was provided as an on-condition cost and an optional terminating action in AD 2018-11-05. We have no way of determining how many owner/operators of the affected airplanes may have already done this proposed replacement. Therefore, we have included a total cost for all affected airplanes.

The difference in the Cost of Compliance between AD 2018-11-05 and this proposed AD is the proposed requirement to replace the power brake valve at a specified time.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-11-05, Amendment 39-19293 (83 FR 24016, May 24, 2018), and adding the following new AD:

Honda Aircraft Company LLC: Docket No. FAA-2018-0513; Product Identifier 2018-CE-013-AD.

(a) Comments Due Date

The FAA must receive comments on this AD action by July 23, 2018.

(b) Affected ADs

This AD replaces AD 2018-11-05, Amendment 39-19293 (83 FR 24016, May 24, 2018).

(c) Applicability

This AD applies to Honda Aircraft Company LLC Model HA-420 airplanes, all serial numbers, that:

(1) Have power brake valve, part number (P/N) HJ1-13243-101-005 or HJ1-13243-101-007, installed; and

(2) are certificated in any category.

(d) Subject

Joint Aircraft System Component (JASC)/Air Transport Association (ATA) of America Code 32, Landing Gear.

(e) Unsafe Condition

This AD was prompted by reports of unannunciated asymmetric braking during ground operations and landing deceleration. We are issuing this AD to detect failure of the power brake valve (PBV). The unsafe condition, if not addressed, could result in degraded braking performance and reduced directional control during ground operations and landing deceleration.

(f) Compliance

Comply with this AD within the compliance times specified, unless already done.

(g) Insert Temporary Revision Into the Airplane Flight Manual (AFM)

Before further flight after May 29, 2018 (the effective date retained from AD 2018-11-05) insert Honda Aircraft Company Temporary Revision TR 01.1, dated February 16, 2018, into the Honda Aircraft Company (Honda) HA-420 Airplane Flight Manual (AFM) (“the temporary revision”). The procedures listed in the temporary revision are required while operating with PBV P/N HJ1-13243-101-005 or P/N HJ1-13243-101-007 installed. This insertion and the steps therein may be performed by the owner/operator (pilot) holding at least a private pilot certificate and must be entered into the airplane records showing compliance with this AD in accordance with 14 CFR 43.9(a)(1)-(4) and 14 CFR 91.417(a)(2)(v). The record must be maintained as required by 14 CFR 91.417, 121.380, or 135.439.

(h) No Reporting Requirement

Although Honda Service Bulletin SB-420-32-001, dated January 8, 2018, and Revision B, dated April 16, 2018, specify submitting certain information to the manufacturer, this AD does not require that action.

(i) Replace the Power Brake Valve

As of and at any time after May 29, 2018 (the effective date retained from AD 2018-11-05), if any of the procedures listed in the temporary revision referenced in paragraph (g) of this AD reveal a leaking PBV, before further flight, replace the installed PBV, P/N HJ1-13243-101-005 or P/N HJ1-13243-101-007, with the improved design PBV, P/N HJ1-13243-101-009. The replacement must be done using the Accomplishment Instructions in either Honda Service Bulletin SB-420-32-001, dated January 8, 2018, or Revision B, dated April 16, 2018. Before further flight after installing P/N HJ1-13243-101-009, remove the temporary revision from the Honda HA-420 AFM.

(j) Optional Terminating Action for Inserting the AFM Temporary Revision/Pilot Checks

(1) Instead of inserting the temporary revision or at any time after inserting the temporary revision required by paragraph (g) of this AD and before the mandatory replacement required in paragraph (j) of this AD, you may replace the installed PBV, P/N HJ1-13243-101-005 or P/N HJ1-13243-101-007, with the improved design PBV, P/N HJ1-13243-101-009. The replacement must be done using the Accomplishment Instructions in either Honda Service Bulletin SB-420-32-001, dated January 8, 2018, or Revision B, dated April 16, 2018. Before further flight after installing P/N HJ1-13243-101-009, remove the temporary revision from the Honda HA-420 AFM.

(2) The on-condition replacement required by paragraph (h) of this AD is still required before further flight.

(k) Mandatory Replacement

Within the next 12 months after the effective date of this AD, replace the installed PBV, P/N HJ1-13243-101-005 or P/N HJ1-13243-101-007, with the improved design PBV, P/N HJ1-13243-101-009. The replacement must be done using the Accomplishment Instructions in either Honda Service Bulletin SB-420-32-001, dated January 8, 2018, or Revision B, dated April 16, 2018. Before further flight after installing P/N HJ1-13243-101-009, remove the temporary revision from the Honda HA-420 AFM.

(l) Special Flight Permit

Special flight permits for the AFM Limitations portion of this AD are prohibited. Special flight permits for the PBV replacement required in this AD are permitted with the following limitations: One ferry flight, including fuel stops, to service center with Honda Aircraft Company Temporary Revision TR 01.1, dated February 16, 2018, incorporated into the Honda HA-420 AFM.

(m) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (n) of this AD.

(2) Before using any approved AMOC, notify your appropriate principal inspector, or lacking a principal inspector, the manager of the local flight standards district office/certificate holding district office.

(3) For service information that contains steps that are labeled as Required for Compliance (RC), the provisions of paragraphs (h) through (j) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

(1) For more information about this AD, contact Samuel Kovitch, Aerospace Engineer, Atlanta ACO Branch, FAA, 1701 Columbia Avenue, College Park, Georgia 30337; phone: (404) 474-5570; fax: (404) 474-5605; email: samuel.kovitch@faa.gov.

(2) For service information identified in this AD, contact Honda Aircraft Company LLC, 6430 Ballinger Road, Greensboro, North Carolina 27410; telephone (336) 662-0246; internet: http://www.hondajet.com. FAA, Policy and Innovation Division, 901 Locust, Kansas City, Missouri 64106. For information on the availability of this material at the FAA, call (816) 329-4148.

Issued in Kansas City, Missouri, on May 29, 2018.
Melvin J. Johnson,
Aircraft Certification Service, Deputy Director, Policy and Innovation Division, AIR-601.

[FR Doc. 2018-12127 Filed 6-6-18; 8:45 am]

BILLING CODE 4910-13-P